DEPARTMENT OF ENERGY

10 CFR Part 430

[Docket No. EERE-2012-BT-TP-0016]

RIN 1904-AC76

Energy Conservation Program for Consumer Products: Test Procedures for Refrigerators, Refrigerator-Freezers, and Freezers; Correction

AGENCY: Office of Energy Efficiency and Renewable Energy, Department of Energy.

ACTION: Correcting amendments.

SUMMARY: On April 21, 2014, the U.S. Department of Energy (DOE) published a final rule in the Federal Register that amended the test procedure for refrigerators, refrigerator-freezers, and freezers (79 FR 22320). Due to drafting errors, that document incorrectly listed the name of a third-party test procedure that was incorporated by reference. This final rule corrects those errors.

DATES: This correction is effective July 16, 2014.

FOR FURTHER INFORMATION CONTACT: Mr. Lucas Adin, U.S. Department of Energy, Office of Energy Efficiency and Renewable Energy, Building Technologies Office, EE-5B, 1000 Independence Avenue SW., Washington, DC 20585-0121. Telephone: (202) 287-1317. Email: Lucas.Adin@ee.doe.gov.

Mr. Michael Kido, U.S. Department of Energy, Office of the General Counsel, GC-71, 1000 Independence Avenue SW., Washington, DC 20585-0121. Telephone: (202) 586-8145. Email: Michael.Kido@hq.doe.gov.

SUPPLEMENTARY INFORMATION:

I. Background

On April 21, 2014, DOE's Office of Energy Efficiency and Renewable Energy published a test procedure final rule in the Federal Register titled, “Test Procedures for Refrigerators, Refrigerator-Freezers, and Freezers” (“April 2014 final rule”). 79 FR 22320. Since the publication of that final rule, it has come to DOE's attention that, due to a technical oversight, certain portions of the regulatory text adopted in the April 2014 final rule for appendix A to subpart B of 10 CFR part 430 (Appendix A) contained erroneous references to AS/NZS 4474.1:2007, Performance of Household Electrical Appliances—Refrigerating Appliances; Part 1: Energy Consumption and Performance, Second edition, published August 15, 2007, which is incorporated by reference at § 430.3. Specifically, several references to this standard in Appendix A are incorrectly listed as “AZ/NZS 44474.1:2007.” The text of § 430.3 correctly references this incorporated standard. DOE has also become aware that the text adopted in the April 2014 final rule for appendix B to subpart B of 10 CFR part 430 (Appendix B) contains an error in a formula in section 5.2.1.3, in that the published version is missing the “K” adjustment factor present in the other formulas in section 5.2 of the test procedure.

II. Need for Correction

As published, the adopted test procedure text may result in confusion due to the incorrect reference in Appendix A and the incorrect formula in Appendix B. Because this final rule would simply correct errors in the text without making substantive changes to the test procedures, the changes addressed in this document are technical in nature. Accordingly, DOE finds that there is good cause under 5 U.S.C. 553(b)(B) to not issue a separate notice to solicit public comment on the changes contained in this document. Issuing a separate notice to solicit public comment would be impracticable, unnecessary, and contrary to the public interest.

III. Procedural Requirements

DOE has concluded that the determinations made pursuant to the various procedural requirements applicable to the April 21, 2014 test procedure final rule remain unchanged for this final rule technical correction. These determinations are set forth in the April 21, 2014 final rule. 79 FR at 22345-22348.

Correction to Preamble

In FR Doc. 2014-08644, published on April 21, 2014 (79 FR 22320), on page 22320, in the second column, in the Supplementary Information section, amend the first paragraph by removing the numeric phrase “44474.1:2007” and adding in its place “4474.1:2007”.

List of Subjects in 10 CFR Part 430

Administrative practice and procedure, Confidential business information, Energy conservation, Household appliances, Imports, Incorporation by reference, Intergovernmental relations, Small businesses.

For the reasons stated in the preamble, DOE corrects 10 CFR part 430 as set forth below:

PART 430—ENERGY CONSERVATION PROGRAM FOR CONSUMER PRODUCTS

1. The authority citation for part 430 continues to read as follows:

Authority: 42 U.S.C. 6291-6309; 28 U.S.C. 2461 note.

Appendix A to Subpart B of Part 430 [Corrected]

2. Appendix A to subpart B of part 430 is amended by removing the numeric phrase “44474.1:2007” and adding in its place “4474.1:2007” in:

a. Section 1.5 in four places;

b. Section 3.3 in two places; and

c. Section 6.2.2.3 in two places.

Appendix B to Subpart B of Part 430 [Corrected]

3. Appendix B to subpart B of part 430 is amended in section 5.2.1.3 by:

a. Removing the formula “ET = (1440 × EP1/T1) + (EP2−(EP1 × T2/T1)) × (12/CT)” and adding in its place “ET = (1440 × K × EP1/T1) + (EP2−(EP1 × T2/T1)) × K × (12/CT)”; and

b. Removing the phrase “1440 is defined in 5.2.1.1 and EP1, EP2, T1, T2, and 12 are defined in 5.2.1.2;” and adding in its place “ET, 1440, and K are defined in section 5.2.1.1 and EP1, EP2, T1, T2, and 12 are defined in section 5.2.1.2;”.

Issued in Washington, DC, on July 10, 2014.
Kathleen B. Hogan,
Deputy Assistant Secretary for Energy Efficiency, Energy Efficiency and Renewable Energy.

[FR Doc. 2014-16720 Filed 7-15-14; 8:45 am]

BILLING CODE 6450-01-P